DEPARTMENT OF ENERGY

Federal Energy Regulatory Commission

Combined Notice of Filings #2

Take notice that the Commission received the following exempt wholesale generator filings:

Docket Numbers: EG21-104-000.

Applicants: Crystal Lake Wind Energy III, LLC.

Description: Notice of Self-Certification of Exempt Wholesale Generator Status of Crystal Lake Wind Energy III, LLC.

Filed Date: 3/8/21.

Accession Number: 20210308-5276.

Comments Due: 5 p.m. ET 3/29/21.

Take notice that the Commission received the following electric rate filings:

Docket Numbers: ER19-465-000; ER19-465-001; ER19-465-003; ER19-465-004.

Applicants: Midcontinent Independent System Operator, Inc.

Description: Midcontinent Independent System Operator, Inc. submits Request to Defer Effective Date of Compliance with Order No. 841.

Filed Date: 3/4/21.

Accession Number: 20210304-5215.

Comments Due: 5 p.m. ET 3/19/21.

Docket Numbers: ER19-2858-001.

Applicants: East Coast Power Linden Holding, L.L.C.

Description: Report Filing: Refund Report to be effective N/A.

Filed Date: 3/10/21.

Accession Number: 20210310-5077.

Comments Due: 5 p.m. ET 3/31/21.

Docket Numbers: ER21-1320-000.

Applicants: Crystal Lake Wind Energy III, LLC.

Description: Baseline eTariff Filing: Crystal Lake Wind Energy III, LLC Application for MBR Authority to be effective 5/10/2021.

Filed Date: 3/10/21.

Accession Number: 20210310-5210.

Comments Due: 5 p.m. ET 3/31/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2021.
Kimberly D. Bose,
Secretary.

[FR Doc. 2021-05386 Filed 3-15-21; 8:45 am]

BILLING CODE 6717-01-P